ENVIRONMENTAL PROTECTION AGENCY

[EPA-HQ-OW-2020-0193; FRL-10008-67-OW]

Proposed Information Collection Request; Comment Request; Effluent Limitation Guidelines Dental Category (Renewal)

AGENCY: Environmental Protection Agency (EPA).

ACTION: Notice.

SUMMARY: The Environmental Protection Agency (EPA) is planning to submit an information collection request (ICR), “Information Collection Request for Effluent Limitation Guidelines for the Dental Category (Renewal)” (EPA ICR No. 2514.03, OMB Control No. 2040-0287) to the Office of Management and Budget (OMB) for review and approval in accordance with the Paperwork Reduction Act (PRA). Before doing so, the EPA is soliciting public comments on specific aspects of the proposed information collection. This is a proposed extension of the ICR which is currently approved through November 30, 2020. An Agency may not conduct or sponsor and a person is not required to respond to a collection of information unless it displays a currently valid OMB control number.

DATES: Comments must be submitted on or before June 29, 2020.

ADDRESSES: You may send comments, identified by Docket ID No. EPA-HQ-OW-2020-0193, by any of the following methods:

• Federal eRulemaking Portal: https://www.regulations.gov/ (our preferred method). Follow the online instructions for submitting comments.

• Email: Tubbs.Marvin@epa.gov. Include Docket ID No. EPA-HQ-OW-2020-0193 in the subject line of the message.

Instructions: All submissions received must include the Docket ID No. for this rulemaking. Comments received may be posted without change to https://www.regulations.gov/, including any personal information provided. For detailed instructions on sending comments and additional information on the rulemaking process, see the “How do I submit written comments?” heading of the SUPPLEMENTARY INFORMATION section of this document. Out of an abundance of caution for members of the public and our staff, the EPA Docket Center and Reading Room was closed to public visitors on March 31, 2020, to reduce the risk of transmitting COVID-19. Our Docket Center staff will continue to provide remote customer service via email, phone, and webform. We encourage the public to submit comments via https://www.regulations.gov or email, as there is a temporary suspension of mail delivery to the EPA, and no hand deliveries are currently accepted. For further information on the EPA Docket Center services and the current status, please visit us online at https://www.epa.gov/dockets.

FOR FURTHER INFORMATION CONTACT: Marvin Tubbs, National Program Branch, Water Permits Division, OWM Mail Code: 4203M, Environmental Protection Agency, 1200 Pennsylvania Ave. NW, Washington, DC 20460; telephone number: (202) 564-2996; email address: Tubbs.Marvin@epa.gov.

SUPPLEMENTARY INFORMATION:

I. How do I submit written comments?

Submit your comments, identified by Docket ID No. EPA-HQ-OW-2020-0193, at https://www.regulations.gov (our preferred method), or the other methods identified in the ADDRESSES section. Once submitted, comments cannot be edited or removed from the docket. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

The EPA is temporarily suspending its Docket Center and Reading Room for public visitors to reduce the risk of transmitting COVID-19. Written comments submitted by mail are temporarily suspended and no hand deliveries will be accepted. Our Docket Center staff will continue to provide remote customer service via email, phone, and webform. We encourage the public to submit comments via https://www.regulations.gov. For further information and updates on the EPA Docket Center services, please visit us online at https://www.epa.gov/dockets.

The EPA continues to carefully and continuously monitor information from the Centers for Disease Control and Prevention (CDC), local area health departments, and our Federal partners so that we can respond rapidly as conditions change regarding COVID-19.

II. Executive Summary

Supporting documents which explain in detail the information that the EPA will be collecting are available in the public docket for this ICR. The docket can be viewed online at https://www.regulations.gov. The telephone number for the Docket Center is 202-566-1744. For additional information about the EPA's public docket, visit https://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: This ICR calculates the burden and costs associated with reporting and recordkeeping requirements of the Effluent Limitations Guidelines (ELG) Dental Category. For purposes of this estimate, the EPA assumed all existing dentists affected by the original rulemaking would have complied with the One-Time Compliance Reporting by the time of this ICR renewal. This estimate includes the effort for One-Time Compliance Reporting for new dental offices which open during the ICR period and those which transfer ownership and conduct annual recordkeeping. This estimate is based on average total compensation labor rates from the Bureau of Labor Statistics for the dental office personnel involved in collecting and reporting the information required. This estimate also includes the effort for control authorities to review the information submitted by dentists that certify they meet the requirements of the final rule. The EPA estimates that there would be no start-up or capital costs associated with the information described above. Burden is defined at 5 CFR 1320(b). This ICR is a revision of the “Information Collection Request for Effluent Limitation Guidelines for the Dental Category (Renewal)” (EPA ICR No. 2514.03, OMB Control No. 2040-0287) that estimated the burden and costs associated with reporting and record-keeping activities associated with the Final ELG and Standards for the Dental Category. Respondent reports may contain confidential business information. If a respondent does consider this information to be of a confidential nature, the respondent may request that such information be treated as confidential. All confidential data will be handled in accordance with 40 CFR 122.7, 40 CFR part 2, and the EPA's Security Manual part III, chapter 9, dated August 9, 1976.

Form numbers: None.

Respondents/affected entities: Dentists, Control Authorities.

Respondent's obligation to respond: Mandatory. Sections 403 and 441 of the CWA.

Estimated number of respondents: 124,378 annual average (122,741 permittees and 1,637 States/Tribes/Territories).

Frequency of response: One time.

Total estimated burden: 392,646 hours (per year). Burden is defined at 5 CFR 1320.03(b).

Total estimated cost: $11,065,942 (per year), includes $6,655 in non-labor costs (i.e., postage and file storage).

Changes in estimates: The labor hours decreased since the last OMB approved ICR. However, the number of respondents and the labor rates increased; therefore, the overall burden increased. The EPA presumed a one percent growth rate in dental offices and that the EPA is presuming only new dental offices and dental offices transferring ownership will be doing the One-Time Compliance Reporting. However, the EPA revised labor rates to 2018 dollars and included total compensation rather than just wages.

Dated: April 24, 2020.
Andrew D. Sawyers,
Director, Office of Wastewater Management.

[FR Doc. 2020-09220 Filed 4-29-20; 8:45 am]

BILLING CODE 6560-50-P